FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 940. Interested parties may submit comments on an agreement to the Secretary, Federal Maritime Commission, Washington, DC 20573 within 10 days of the date this notice appears in the Federal Register.

Agreement No.: 11305-007.

Title: United Alliance Agreement.

Parties:

Cho Yang Shipping Company, Ltd.

DSR-Senator Lines GmbH

Hanjin Shipping Co., Ltd.

United Arab Shipping Company

Synopsis: The proposed amendment would permit a party belonging to another agreement in the trade to obtain space from carriers operating under that agreement for its own use or sale to a member of this Agreement. It also lists other agreements, currently in effect, from which such space would be obtained and makes other conforming, administrative changes to the Agreement.

Agreement No.: 011441-004.

Title: NYK/NOS Joint Service Agreement.

Parties:

Wallenius Wilhelmsen Lines AS

Nippon Yusen Kaisha

Synopsis: The amendment deletes the Mediterranean, Black, Red and Arabian Seas from the geographic scope of the agreement, reduces the number of vessels operated, and restates/updates the agreement.

Agreement No.: 011675-001.

Title: DSEN/EMC-Slot Charter Agreement.

Parties:

DSR-Senator Lines GmbH

Evergreen Marine Corp. (Taiwan) Ltd.

Synopsis: The proposed modification reduces Evergreen's westbound slot allocation and establishes a 45-day notice period to terminate the agreement on or after September 30, 2000.

Dated: June 2, 2000.
By Order of the Federal Maritime Commission.
Bryant L. VanBrakle,
Secretary.

[FR Doc. 00-14346 Filed 6-6-00; 8:45 am]

BILLING CODE 6730-01-P